NUCLEAR REGULATORY COMMISSION

[NRC-2010-0316]

NUREG/CR-7010, Cable Heat Release, Ignition, and Spread in Tray Installations During Fire (CHRISTIFIRE); Volume 1: Horizontal Trays, Draft Report for Comment

AGENCY: Nuclear Regulatory Commission.

ACTION: Announcement of issuance for public comment, availability.

SUMMARY: The Nuclear Regulatory Commission has issued for public comment a document entitled: “NUREG/CR-7010, Cable Heat Release, Ignition, and Spread in Tray Installations During Fire (CHRISTIFIRE) Volume 1: Horizontal Trays, Draft Report for Comment.”

DATES: Please submit comments by November 15, 2010. Comments received after this date will be considered if it is practical to do so, but the NRC staff is able to ensure consideration only for comments received on or before this date.

ADDRESSES: You may submit comments by any one of the following methods. Please include Docket ID NRC-2010-0316 in the subject line of your comments. Comments submitted in writing or in electronic form will be posted on the NRC website and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0316. Address questions about NRC dockets to Carol Gallagher 301-492-3668; e-mail Carol.Gallagher@nrc.gov.

Mail comments to: Cindy K. Bladey, Chief, Rules, Announcements and Directives Branch (RADB), Division of Administrative Services, Office of Administration, Mail Stop: TWB-05-B01M, U.S. Nuclear Regulatory Commission, Washington, DC 20555-0001, or by fax to RADB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. “NUREG/CR-7010, Cable Heat Release, Ignition, and Spread in Tray Installations During Fire (CHRISTIFIRE) Volume 1: Horizontal Trays” is available electronically under ADAMS Accession Number ML102700336.

Federal Rulemaking Web site: Public comments and supporting materials related to this notice can be found at http://www.regulations.gov by searching on Docket ID: NRC-2010-0316.

FOR FURTHER INFORMATION CONTACT: David Stroup, Division of Risk Analysis, Office of Nuclear Regulatory Research, U.S. Nuclear Regulatory Commission, Washington, DC 20555-0001. Telephone: 301-251-7609, e-mail: David.Stroup@nrc.gov.

SUPPLEMENTARY INFORMATION: NUREG/CR-7010, Volume 1 documents the first phase of a multi-year program called CHRISTIFIRE (Cable Heat Release, Ignition, and Spread in Tray Installations during FIRE). The overall goal of the program is to quantify the burning characteristics of grouped electrical cables. The first phase of the program focuses on horizontal tray configurations. The experiments conducted range from micro-scale, in which very small (5 mg) samples of cable materials were burned in a calorimeter to determine their heat of combustion and other properties; to full-scale, in which horizontal, ladder-back trays loaded with varying amounts of cable were burned under a large oxygen-depletion calorimeter. Other experiments include cone calorimetry, smoke and effluent characterization in a small test furnace, and intermediate-scale calorimetry involving a single tray of cables underneath a bank of radiant panels. The results of the small-scale experiments are to serve as input data for fire models, while the results of the full-scale experiments are to serve as validation data for the models.

Dated at Rockville, Maryland, this 28th day of September 2010.
For the Nuclear Regulatory Commission.
Mark H. Salley,
Chief, Fire Research Branch, Division of Risk Analysis, Office of Nuclear Regulatory Research.

[FR Doc. 2010-24914 Filed 10-4-10; 8:45 am]

BILLING CODE 7590-01-P